DEPARTMENT OF COMMERCE

National Oceanic and Atmospheric Administration

[I.D. 090806C]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, in Dutch Harbor, AK.

DATES: The meetings will be held on October 2 through October 10, 2006. See SUPPLEMENTARY INFORMATION for specific dates and times.

ADDRESSES: The meetings will be held at the Grand Aleutian Hotel, 498 Salmon Way, Dutch Harbor, AK 99692.

Council address: North Pacific Fishery Management Council, 605 W. 4th Avenue, Suite 306, Anchorage, AK 99501-2252.

FOR FURTHER INFORMATION CONTACT: Council staff, telephone: (907) 271-2809.

SUPPLEMENTARY INFORMATION: The Council will begin its plenary session at 8 a.m. on Wednesday, October 4, continuing through October 10, 2006. The Council's Advisory Panel (AP) will begin at 8 a.m., Monday, October 2 and continue through Friday October 6, 2006. The Scientific and Statistical Committee (SSC) will begin at 8 a.m. on Monday October 2 and continue through Wednesday, October 4, 2006. The Enforcement Committee will meet Tuesday, October 3, from 9 a.m. to 12 noon in the Makushin Room. The Ecosystem Committee will meet Tuesday, October 3, from 1 p.m. to 5 p.m. in the Makushin Room. All meetings are open to the public, except executive sessions.

Council Plenary Session: The agenda for the Council's plenary session will include the following issues. The Council may take appropriate action on any of the issues identified.

1. Reports

a. Executive Director's Report

b. NMFS Management Report (Status of the Interagency Electronic Reporting System and Electronic Catcher Vessel Logbook)

c. U.S. Coast Guard Report

d. Alaska Department of Fish & Game Report

e. U.S. Fish & Wildlife Service Report

f. Department of State Report

g. Protected Species Report

2. Steller Sea Lion Management: Review revised Steller Sea Lion (SSL) proposal ranking tool (SSC only); Progress report on Endangered Species Act consultation and review partial draft Biological Opinion; Report on Steller Sea Lion Mitigation Committee proposals received.

3. Community Development Quota (CDQ) Program: Report on Coast Guard legislation (Public Law 109-241).

4. Trawl License Limitation Program Recency: Preliminary review of analysis and direction as necessary.

5. Bering Sea and Aleutian Islands allocation split for Pacific cod: Review discussion paper and direction as necessary.

6. Socioeconomic data collection: Review discussion paper, and take action as necessary.

7. Groundfish Management: Review Ecosystem Stock Assessment Fishery Evaluation Report (SAFE); review draft Environmental Impact Statement (EIS) and proposed groundfish specifications for 2007/08; initial review Vessel Monitor System requirements; review outline for “other species” analysis (SSC only).

8. Prohibited species bycatch: Initial review of Vessel Incentive Program (VIP) repeal (T); update and direction on Salmon Bycatch (B package).

9. BSAI Crab Management: Review discussion paper on BSAI crab vessel use caps; review and approve BSAI Crab SAFE; Review crab Center for Independent Experts (CIE) report/overfishing definitions update (SSC only).

10. Essential Fish Habitat (EFH): Review Bering Sea habitat conservation open area boundaries and crab data/plan; Initial/final action on EFH Aleutian Island open area adjustments.

11. Ecosystem Approaches: Update on Aleutian Island Fishery Ecosystem Plan (FEP), action as necessary; Update on Alaska Marine Ecosystem Forum.

12. Staff Tasking: Review Committees and tasking and take action as necessary; Review Programmatic Groundfish Environmental Impact Statement (PGSEIS) Workplan.

13. Other Business

The SSC agenda will include the following issues:

1. Protected Species Report

2. SSL Management

3. Socioeconomic data

4. Groundfish Management

5. PSC Bycatch

6. BSAI Crab management

7. EFH

8. Ecosystem Approaches

9. Review PGSIES Workplan.

The Advisory Panel will address the same agenda issues as the Council.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: September 13, 2006.
Tracey L. Thompson,
Acting Director, Office of Sustainable Fisheries, National Marine Fisheries Service.

[FR Doc. E6-15416 Filed 9-15-06; 8:45 am]

BILLING CODE 3510-22-S